DEPARTMENT OF ENERGY

Federal Energy Regulatory Commission

[Docket No. AD19-8-000]

Notice of Workshop: America's Water Infrastructure Act of 2018

The Federal Energy Regulatory Commission (FERC or Commission) staff will hold a workshop on April 4, 2019, from 1:00 p.m. (EDT) to 4:45 p.m. (EDT) in the Commission Meeting Room at 888 First Street NE, Washington, DC 20426. The workshop will be open to the public, and all interested parties are invited to attend and participate. The workshop will be led by Commission staff, and may be attended by one or more Commissioners. The workshop will involve roundtable discussions by a number of panelists and moderated by Commission staff.

The purpose of the workshop is to explore potential opportunities for development of closed-loop pumped storage projects at abandoned mine sites in compliance with section 3004 of the America's Water Infrastructure Act of 2018. An agenda for the workshop is attached to this notice. There will be time for audience questions and comments following each agenda discussion topic.

A free webcast of this event will be available through www.ferc.gov. Anyone with internet access who wants to view this event can do so by navigating to the Calendar of Events at www.ferc.gov and locating this event in the Calendar. The Capitol Connection provides technical support for webcasts and offers the option of listening to the workshop via phone-bridge for a fee. If you have any questions, visit www.CapitolConnection.org or call (703) 993-3100.

Those interested in attending the workshop or viewing the webcast are encouraged to register at https://www.ferc.gov/whats-new/registration/04-04-19-form.asp.

Commission workshops are accessible under section 508 of the Rehabilitation Act of 1973. For accessibility accommodations, please send an email to accessibility@ferc.gov, call (866) 208-3372 (toll free) or (202) 208-8659 (TTY), or send a FAX to (202) 208-2106 with the required accommodations.

For more information about this workshop, please contact: Monir Chowdhury (Technical Information), Office of Energy Projects, Federal Energy Regulatory Commission, 888 First Street NE, Washington, DC 20426, (202) 502-6736, monir.chowdhury@ferc.gov.

Sarah McKinley (Logistical Information), Office of External Affairs, Federal Energy Regulatory Commission, 888 First Street NE, Washington, DC 20426, (202) 502-8368, sarah.mckinley@ferc.gov.

Dated: March 5, 2019.
Kimberly D. Bose,
Secretary.

[FR Doc. 2019-04325 Filed 3-8-19; 8:45 am]

BILLING CODE 6717-01-P